ENVIRONMENTAL PROTECTION AGENCY

[FRL-9186-9]

Science Advisory Board Staff Office; Notification of a Public Meeting of the Advisory Council on Clean Air Compliance Analysis (Council)

AGENCY: Environmental Protection Agency (EPA).

ACTION: Notice.

SUMMARY: The EPA Science Advisory Board (SAB) Staff Office announces a public meeting of the Advisory Council on Clean Air Compliance Analysis (Council). The Council will review a final draft of the EPA Office of Air and Radiation's Second Section 812 Prospective Analysis of the benefits and costs of the Clean Air Act.

DATES: The meeting will be held on Thursday, September 2, 2010 from 8:30 a.m. to 5 p.m. (Eastern Time) and Friday, September 3, 2010 from 8:30 a.m. to noon (Eastern Time).

ADDRESSES: The public meeting will be held at the Park Hyatt Washington, 1201 24th Street, NW., Washington, DC 20037.

FOR FURTHER INFORMATION CONTACT: Members of the public who wish to obtain further information about this meeting may contact Ms. Stephanie Sanzone, Designated Federal Officer (DFO), EPA Science Advisory Board Staff Office (1400R), U.S. Environmental Protection Agency, 1200 Pennsylvania Avenue, NW., Washington, DC 20460; by telephone/voice mail: (202) 564-2067 or e-mail at sanzone.stephanie@epa.gov. General information about the Council may be found on the Council Web site at http://www.epa.gov/advisorycouncilcaa.

SUPPLEMENTARY INFORMATION: Background: Pursuant to the Federal Advisory Committee Act (FACA), 5 U.S.C., App. 2, notice is hereby given that the Advisory Council on Clean Air Compliance Analysis (Council) will hold a public meeting to review draft EPA documents prepared for the Second Section 812 Prospective Benefit-Cost Analysis of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The Council its subcommittees (Air Quality Modeling Subcommittee, Health Effects Subcommittee, and Ecological Effects Subcommittee) comply with the provisions of FACA and all appropriate SAB Staff Office procedural policies.

Pursuant to Section 812 of the 1990 Clean Air Act Amendments (CAAA), EPA conducts periodic studies to assess benefits and costs of the EPA's regulatory actions under the Clean Air Act. The Council has provided advice on an EPA retrospective study published in 1997 and an EPA prospective study completed in 1999. EPA initiated a second prospective study to evaluate the benefits and costs of EPA Clean Air programs for years 1990—2020. The Council has previously provided advice on the technical analyses prepared for this study. EPA's Office of Air and Radiation (OAR) has now completed the analytical work for the second prospective study, and has requested the Council's review of the draft synthesis report.

Previous Reviews: The Council and its subcommittees have previously reviewed EPA documents prepared in support of the Office of Air and Radiation's Second Section 812 Prospective Study, and the advisory reports from these activities are available on the Council Web site at (http://www.epa.gov/advisorycouncilcaa). As announced previously (Federal Register, Vol 75, Number 73, Pages 19969-19971), the Council met on May 4-5, 2010 to review EPA reports on uncertainty and economic analyses of the costs and benefits of the CAAA, including valuation of health and welfare benefits, estimates of direct costs, and results from the EMPAX-CGE economy-wide modeling. The Council also reviewed chapters from the preliminary draft integrated report, and offered suggestions for improvement, summarized in a Council report, Advisory on a Preliminary Draft of the Second Section 812 Prospective Study of the Benefits and Costs of the Clean Air Act (April 2010). The purpose of the September 2-3, 2010 meeting is for the Council to review the revised version of the draft integrated report. Background information on this advisory activity is available on the Council Web site at http://yosemite.epa.gov/sab/sabproduct.nsf/fedrgstr_activites/2nd_Prospective_812_Study?OpenDocument.

Technical Contacts: The Office of Air and Radiation technical contact for the Second Section 812 Benefit-Cost Analysis of the Clean Air Act is Mr. Jim DeMocker at (202) 564-1673 or democker.jim@epa.gov.

Availability of Meeting Materials: Draft EPA documents provided to the Council are available at http://www.epa.gov/oar/sect812/prospective2.html and on the Council Web site. The meeting agenda for September 2-3, 2010 and any background materials will be posted on the Council Web site at (http://www.epa.gov/advisorycouncilcaa) prior to the meeting.

Procedures for Providing Public Input: Interested members of the public may submit relevant written information on the group conducting the activity or written or oral information for the Council to consider on the topics of this advisory activity. Oral Statements: In general, individuals or groups requesting an oral presentation at a public meeting will be limited to five minutes per speaker, with no more than one hour for all speakers. Interested parties should contact Ms. Sanzone at the contact information provided above by August 26, 2010, to be placed on the public speaker list for the September 2-3, 2010 meeting. Written Statements: Written statements should be received in the SAB Staff Office by August 26, 2010, so that the information may be made available to the Council for their consideration prior to the meeting. Written statements should be supplied to Ms. Sanzone in the following formats: one hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 564-2067, or via e-mail at sanzone.stephanie@epa.gov, preferably at least ten (10) days prior to the meeting, to give EPA as much time as possible to process your request.

Dated: August 4, 2010.
Anthony Maciorowski,
Deputy Director, EPA Science Advisory Board Staff Office.

[FR Doc. 2010-19718 Filed 8-9-10; 8:45 am]

BILLING CODE 6560-50-P